RAILROAD RETIREMENT BOARD

Proposed Collection; Comment Request

SUMMARY: In accordance with the requirement of Section 3506 (c)(2)(A) of the Paperwork Reduction Act of 1995 which provides opportunity for public comment on new or revised data collections, the Railroad Retirement board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Lag Service Reports; OMB 3220-005.

Under Section 9 of the Railroad Retirement Act (RRA), railroad employers are required to submit reports of employee service and compensation to the RRB as needed for administering the RRA. To pay benefits due on a deceased employee's earnings records or determine entitlements to, and amount of an annuity applied for, it is necessary at times to obtain from railroad employers current (lag) service and compensation information not yet reported to the RRB through the annual reporting process. The reporting requirements are specified in 20 CFR 209.4 and 209.5.

The RRB currently utilizes Form G-88A, Employer's Supplemental Report of Service and Compensation and Form AA-12, Notice of Death and Statement of Compensation, to obtain the required lag service and compensation and related information from railroad employers.

The RRB proposes to obsolete Form G-88a. Form G-88a will be replaced by two forms, Form G-88a.1, Notice of Retirement and Request for Verification of Date Last Worked, and G-88a.2, Notice of Retirement and Request for Service Needed for Eligibility. Form G-88a.1 will be sent by the RRB to railroad employers and used for the specific purpose of verifying information previously provided to the RRB regarding the date last worked by the employee. If the information is correct, the employer need not reply. If the information is incorrect, the employer is asked to provide corrected information. Form G-88a.2 will be used by the RRB to secure lag service and compensation information when it is needed to determine benefit eligibility. Both proposed forms will direct the railroad employers to fax the information directly to the RRB. It is expected that the proposed new forms will be easier for railroad employers to complete and encourage a speedier reply, allowing the RRB to pay applicants in a more timely and accurate manner. A minor editorial change is proposed to Form AA-12.

The completion time for proposed forms G-88a.1 and G-88a.2 is estimated at 5 minutes per response. The estimated completion time for Form AA-12 is estimated at 6\1/2\ minutes per response. The RRB estimates that approximately 800 Form AA-12's, 2,300 Form G-88a.1's and 1,200 G-88.2's will be completed annually.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 00-12199 Filed 5-15-00; 8:45 am]

BILLING CODE 7905-01-M